NUCLEAR REGULATORY COMMISSION

Sunshine Act Meeting

Date: Weeks of February 23, March 1, 8, 15, 22, 29, 2004.

Place: Commissioners' Conference Room, 11555 Rockville Pike, Rockville, Maryland.

Status: Public and Closed.

Matters to be Considered:

Week of February 23, 2004

Wednesday, February 25, 2004

9 a.m.—Discussion of Security Issues (Closed—Ex. 1)

Thursday, February 26, 2004

9:30 a.m.—Meeting with UK Regulators to Discuss Security Issues (Closed—Ex. 1)

1:30 p.m.—Status of Davis Besse Lessons Learned Task Force Issues (Public Meeting) (Contact: Brendan Moroney, 301-415-3974)

This meeting will be webcast live at the Web address— http://www.nrc.gov.

Week of March 1, 2004—Tentative

Tuesday, March 2, 2004

9:30 a.m.—Meeting with Advisory Committee on the Medical Uses of Isotopes (ACMUI) and NRC Staff (Public Meeting) (Contact: Angela Williamson, 301-415-5030)

This meeting will be webcast live at the Web address— http://www.nrc.gov.

Wednesday, March 3, 2004

9:30 a.m.—25th Anniversary Three Mile Island (TMI) Unit 2 Accident Presentation (Public Meeting) (Location: TWFN Auditorium, 11545 Rockville Pike) (Contact: Sam Walker, 301-415-1965)

This meeting will be webcast live at the Web address— http://www.nrc.gov.

2:45 p.m.—Discussion of Security Issues (Closed—Ex. 1)

Thursday, March 4, 2004

1:30 p.m.—Briefing on Status of Office of Nuclear Material Safety and Safeguards (NMSS) Programs, Performance, and Plans—Waste Safety (Public Meeting) (Contact: Claudia Seelig, 301-415-7243)

This meeting will be webcast live at the Web address— http://www.nrc.gov.

Week of March 8, 2004—Tentative

Tuesday, March 9, 2004

9:30 a.m.—Briefing on Status of Office of Nuclear Material Safety and Safeguards (NMSS) Programs, Performance, and Plans—Material Safety (Public Meeting) (Contact: Claudia Seelig, 301-415-7243)

This meeting will be webcast live at the Web address— http://www.nrc.gov.

1:30 p.m.—Discussion of Security Issues (Closed—Ex. 1)

Week of March 15, 2004—Tentative

There are no meetings scheduled for the Week of March 15, 2004.

Week of March 22, 2004—Tentative

Tuesday, March 23, 2004

9:30 a.m.—Briefing on Status of Office of Nuclear Regulatory Research (RES) Programs, Performance, and Plans (Public Meeting) (Contact: Alan Levin, 301-415-6656)

This meeting will be webcast live at the Web address— http://www.nrc.gov.

1:30 p.m.—Briefing on Status of Office of Nuclear Security and Incident Response (NSIR) Programs, Performance, and Plans (Public Meeting) (Contact: Jack Davis, 301-415-7256)

This meeting will be webcast live at the Web address— http://www.nrc.gov.

2:30 p.m.—Discussion of Security Issues (Closed—Ex. 1)

Wednesday, March 24, 2004

9:30 a.m.—Briefing on Status of Office of Nuclear Reactor Regulations (NRR) Programs, Performance, and Plans (Public Meeting) (Contact: Mike Case, 301-415-1275)

This meeting will be webcast live at the Web address— http://www.nrc.gov.

Week of March 29, 2004—Tentative

There are no meetings scheduled for the Week of March 29, 2004.

* The schedule for Commission meetings is subject to change on short notice. To verify the status of meetings call (recording)—(301) 4125-1292. Contact person for more information: Dave Gamberoni, (301) 415-1651.

* * * * *

SUPPLEMENTARY INFORMATION: By a vote of 3-0 on February 18, the Commission determined pursuant to U.S.C. 552b(e) and § 9.107(a) of the Commission's rules that “Affirmation of (1) Maine Yankee Atomic Power Co. (Maine Yankee Atomic Power Station); State of Maine's petition for review of LBP-03-26, and (2) Duke Energy Corp. (Catawba Nuclear Station, Units 1&2); NRC Staff's Petition for interlocutory review of the LB's 1/2904 Memo & Order (Ruling on BREDL Motion for Need to Know Determination & Extension of Deadline for Filing Security-Related Contentions)” be held on February 18, and on less than one week's notice to the public.

* * * * *

The NRC Commission Meeting Schedule can be found on the Internet at: http://www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 19, 2004.
R. Michelle Schroll,
Office of the Secretary.

[FR Doc. 04-4088 Filed 2-20-04; 9:53 am]

BILLING CODE 7590-01-M